DEPARTMENT OF THE INTERIOR

National Park Service

Concession Contracts and Permits: Extension of Expiring Contracts for Up To One Year

AGENCY: National Park Service, Interior.

ACTION: Public notice.

SUMMARY: Pursuant to the terms of existing concession permits, with the exception of construction on National Park Service lands, public notice is hereby given that the National Park Service intends to provide visitor services under the authority of a temporary concession contract with a term of up to one year from the date of permit expirations.

SUPPLEMENTARY INFORMATION: The permits listed below have been extended to the maximum allowable under 36 CFR 51.23. Under the provisions of current concession permits, with one exception, and pending the development and solicitation of a prospectus for a new concession permit, the National Park Service authorizes continuation of visitor services under a temporary concession contract for a period of up to one year from the expiration of the current concession permit. The exception precludes construction on National Park Service lands, regardless of whether the current permit authorizes such activity, the temporary contract does not affect any rights with respect to selection for execution of a new concession contract.

Concessioner ID No. | Concessioner name | Park
ACAD010 | National Park Tours & Acadia National Park Transportation, Inc | Acadia National Park.
ADAD011 | Oli's Trolley | Acadia National Park.
ACAD012 | Edward Winterberg | Acadia National Park.
ADAD013 | Carriages in the Park, Inc | Acadia National Park.
BICA003 | The Marina at Horseshoe Bend | Big Horn Canyon National Recreation Area.
BICA007 | Lucon Corporation | Big Horn Cancoy National Recreation Area.
BISC002 | Biscayne National Underwater Park, Inc | Biscayne National Park.
BISO002 | Eastern National | Big South Fork National Recreation Area.
BISO005 | Bernard Terry Station Camp Equine | Big South Fork National Recreation Area.
BISO006 | Bernard Terry Bear Creek Equine | Big South Fork National Recreation Area.
BLCA001 | Rim House | Black Canyon of the Gunnison National Park.
BLRI009 | Parkway Inn, Inc | Blue Ridge Parkway.
CANY008 | Canyonlands Natural History Association | Canyonlands National Park.
CANY022 | Oars Canyonlands, Inc | Canyonlands National Park.
CANY024 | Nixhanen & Jones (Tag a Long Tours) | Canyonlands National Park.
CANY025 | NAVTEC Expansions, Inc | Canyonlands National Park.
CANY026 | Nixhansen & Jones (Tag a Long Tours) | Canyonlands National Park.
CANY027 | 3 D River Visions, Inc (Tex's Riverways) | Canyonlands National Park.
CARE003 | Capital Reef Natural History Association | Capital Reef National Monument.
COLO003 | Period Designs | Colonial National Historic Site.
COLO004 | Yorktown Arts Foundation | Colonial National Historic Site.
CHOH002 | Swain's Lock | Chesapeake & Ohio Canal National Historic Park.
DEWA002 | Dingman's Campground | Delaware Water Gap National Recreation Area.
DINO010 | Faron & Wayne Wilkins | Dinosaur National Park.
DINO013 | Dinosaur Nature Association | Dinosaur National Park.
GATE008 | John Maggi | Gateway National Recreation Area.
GLAC004 | Belton Chalets | Glacier National Park.
GLAC006 | Glacier Wilderness Guide | Glacier National Park.
GLAC010 | Edward Desrosier (Sun Tours) | Glacier National Park.
GLCA021 | Samaritan Health Service | Glen Canyon National Recreation Area.
GOGA002 | Council of American Youth Hostels Fort Mason | Golden Gate National Recreation Area.
GOGA003 | Council of American Youth Hostels Fort Barry | Golden Gate National Recreation Area.
GOGA006 | Giant Camera | Golden Gate National Recreation Area.
GOSP001 | McFarland Distributing | Golden Spike National Historic Site.
GRSA003 | Great Sand Dunes Oasis | Great Sand Dunes National Monument.
GRSM007 | Smokemont Riding Stables | Great Smokey Mountains National Park.
GRSM008 | Smoky Mountains Riding Stables | Great Smoky Mountain National Park.
GRSM011 | Lon Nations Deep Creek Riding Stable | Great Smoky Mountains National Park.
GRTE005 | American Alpine Club | Grand Teton National Park.
GRTE006 | Barker Ewing Scenic Tour | Grand Teton National Park.
GRTE008 | Jack Dennis Fishing Trip | Grand Teton National Park.
GRTE010 | Fort Jackson Float Trip | Grand Teton National Park.
GRTE011 | Heart 6 Ranch Float Trip | Grand Teton National Park.
GRTE012 | Jackson Hole Mountain Guide | Grand Teton National Park.
GRTE014 | Cresent H Ranch | Grand Teton National Park.
GRTE015 | National Park Float Trip | Grand Teton National Park.
GRTE017 | OARS Inc | Grand Teton National Park.
GRTE020 | Solitude Float Trips | Grand Teton National Park.
GRTE022 | Teton Boating Co | Grand Teton National Park.
GRTE034 | Wilderness Ventures | Grand Teton National Park.
GRTE038 | Teton Valley Ranch Camps | Grand Teton National Park.
GRTE040 | Lost Creek Ranch | Grand Teton National Park.
GRTE041 | Jackson Hole Trail Rides | Grand Teton National Park.
GRTE043 | Boy Scouts of America | Grand Teton National Park.
GRTE045 | R Lazy Ranch | Grand Teton National Park.
INDU003 | Michiana Industries | Indiana Dunes National Recreation Area.
JODR003 | Cache Creek Snowmobile | John D. Rockefeller, Jr. Memorial Parkway.
JODR004 | Heart 6 Snowmobile | John D. Rockefeller, Jr. Memorial Parkway.
JODR005 | Hidden Basin (Old Faithful Snowmobile) | John D. Rockefeller, Jr. Memorial Parkway.
JODR006 | High Country Snowmobile | John D. Rockefeller, Jr. Memorial Parkway.
JODR007 | Mountain High Adventures | John D. Rockefeller, Jr. Memorial Parkway.
JODR008 | Best Adventures | John D. Rockefeller, Jr. Memorial Parkway.
JODR009 | Jackson Hole Snowmobile | John D. Rockefeller, Jr. Memorial Parkway.
JODR010 | National Park Adventures | John D. Rockefeller, Jr. Memorial Parkway.
JODR012 | Tugwotee Mountain Lodge | John D. Rockefeller, Jr. Memorial Parkway.
JODR013 | Rocky Mountain Tours | John D. Rockefeller, Jr. Memorial Parkway.
JODR014 | Yellowstone Snowmobile | John D. Rockefeller, Jr. Memorial Parkway.
MORA004 | John P. Squires | Mount Rainier National Park.
OLYM048 | Wildwater River Tours | Olympic National Park.
OLYM057 | Olympic Raft and Guide Service | Olympic National Park.
OZAR037 | Aker's Ferry Tude Rental | Ozark National Scenic Riverway.
PORE001 | Drakes Beach Snack Bar | Point Reyes National Seashore.
PORE002 | Five Brooks Stables | Point Rayes National Seashore.
REDW001 | American Youth Hostels, Inc | Redwoods National Park.
ROMO003 | Andrews, Bicknell & Crothers LLC | Rocky Mountain National Park.
ROMO004 | Silver Peaks Enterprises | Rocky Mountain National Park.
ROMO008 | Wild Basin Lodge | Rocky Mountain National Park.
ROMO009 | Meeker Park Lodge | Rocky Mountain National Park.
ROMO010 | Silver Lane Enterprises | Rocky Mountain National Park.
ROMO011 | YMCA of the Rockies | Rocky Mountain National Park.
ROMO012 | Aspen Lodge & Guest Ranch | Rocky Mountain National Park.
ROMO013 | Wind River Ranch | Rocky Mountain National Park.
ROMO016 | National Park Village Livery | Rocky Mountain National Park.
ROMO017 | Sombrero Ranches, Inc | Rocky Mountain National Park.
ROMO018 | Winding River Resort | Rocky Mountain National Park.
ROMO019 | Cheley Colorado Camp | Rocky Mountain National Park.
ROMO021 | Lane Guest Ranch | Rocky Mountain National Park.
ROMO022 | Mountain Prairie Girl Scout Council | Rocky Mountain National Park.
ROMO023 | Colorado Outward Bound | Rocky Mountain National Park.
ROMO025 | Overland Travel, Inc | Rocky Mountain National Park.
ROMO026 | The Road Less Traveled | Rocky Mountain National Park.
ROMO027 | Young Life Wilderness | Rocky Mountain National Park.
SAAN001 | Los Compadres de San Antonio | San Antonio Mission Historic Park.
SERO001 | Eastern National | Southeast Regional Office.
SHEN002 | Potomac Appalachian Trail Club | Shenandoah National Park.
USAR001 | Division of Vocational Rehabilitation | U.S.S. Arizona Memorial.
VIIS008 | Caneel Bay, Inc | Virgin Islands National Park.
VICA002 | Black Hills Parks Association | Wind Cave National Park.
YUCH001 | Eric Arneson E.A. Adventures | Yukon-Charley Rivers National Preserve.

EFFECTIVE DATE: January 2, 2002.

FOR FURTHER INFORMATION CONTACT: Cynthia Orlando, Concession Program Manager, National Park Service, Washington, DC, 20240, Telephone, 202/565-1210.

Dated: December 7, 2001.
Richard G. Ring,
Associate Director, Park Operations and Education.

[FR Doc. 01-31890 Filed 12-27-01; 8:45 am]

BILLING CODE 4310-70-M